DEPARTMENT OF TRANSPORTATION

Surface Transportation Board

[STB Docket No. AB-564]

Camas Prairie RailNet, Inc.—Abandonment—In Lewis, Nez Perce, and Idaho Counties, ID (Between Spalding and Grangeville, ID)

On May 26, 2000, Camas Prairie RailNet, Inc. (CSPR) filed with the Surface Transportation Board, Washington, DC 20423, an application for permission for the abandonment of a line of railroad known as the 2nd Subdivision or Grangeville Line extending from railroad milepost 0.00 near Spalding, ID, to railroad milepost 66.8 (end of track) near Grangeville, ID, a distance of 66.8 miles, in Lewis, Nez Perce, and Idaho Counties, ID. The line includes the stations of Lapwai (MP 3.3), Sweetwater (MP 5.3), Culdesac (MP 12.1), Nucrag (MP 19.5), Ruebens (MP 26.1), Craigmont (MP 34.3), Ferdinand (MP 42.3), Cottonwood (MP 51.0), Fenn (MP 59.5), and Grangeville (MP 66.8), and traverses United States Postal Service ZIP Codes 83501, 83522, 83523, 83524, 83526, 83530, 83531, 83548, and 83640.

The line contains federally granted rights-of-way. Any documentation in the railroad's possession will be made available promptly to those requesting it. The applicant's entire case for abandonment (case-in-chief) was filed with the application.

This line of railroad has been included in the railroad's system diagram map or has been included in its narrative in category 1 since December 28, 1999.¹

¹ Applicant inadvertently neglected to furnish a copy of its system diagram map (SDM) or narrative to the Idaho Transportation Department on December 28, 1999. Applicant corrected this omission by faxing and mailing a copy to that agency on January 27, 2000, 120 days before filing its abandonment application. The SDM or narrative contained a de minimis mistake indicating that the line terminates at milepost 66.5 rather than at the end of the track at milepost 66.8.

The interest of railroad employees will be protected by conditions imposed in Oregon Short Line R. Co.—Abandonment—Goshen, 360 I.C.C. 91 (1979).

Any interested person may file with the Surface Transportation Board written comments concerning the proposed abandonment or protests (including the protestant's entire opposition case), by July 10, 2000. All interested persons should be aware that following any abandonment of rail service and salvage of the line, the line may be suitable for other public use, including interim trail use. Any request for a public use condition under 49 U.S.C. 10905 (§ 1152.28 of the Board's rules) and any request for a trail use condition under 16 U.S.C. 1247(d) (§ 1152.29 of the Board's rules) must also be filed by July 10, 2000. The due date for applicant's reply to protests and its response to trail use requests is July 25, 2000. Persons who may oppose the abandonment or discontinuance but who do not wish to participate fully in the process by submitting verified statements of witnesses, containing detailed evidence, should file comments. Persons interested only in seeking public use or trail use conditions should also file comments. Persons opposing the proposed abandonment who wish to participate actively and fully in the process should file a protest.²

² By decision served June 9, 2000, requests for oral hearing in this proceeding were denied. The abandonment application will therefore be decided based upon written presentations.

In addition, a commenting party or protestant may provide:

(i) An offer of financial assistance pursuant to 49 U.S.C. 10904 (due 120 days after the application is filed or 10 days after the application is granted by the Board, whichever occurs sooner);

(ii) Recommended provisions for protection of the interests of employees;

(iii) A request for a public use condition under 49 U.S.C. 10905; and

(iv) A statement pertaining to prospective use of the right-of-way for interim trail use and rail banking under 16 U.S.C. 1247(d) and § 1152.29.

Parties seeking information concerning the filing of protests should refer to § 1152.25.

Written comments and protests, including all requests for public use and trail use conditions, must indicate the proceeding designation STB Docket No. AB-564 and should be filed with the Secretary, Surface Transportation Board, Washington, DC 20423, no later than July 10, 2000. Interested persons may file a written comment or protest with the Board to become a party to this abandonment proceeding. A copy of each written comment or protest shall be served upon the representative of the applicant, John D. Heffner, Rea, Cross & Auchincloss, 1707 L Street, NW, Suite 570, Washington, DC 20036, telephone: 202-785-3700. The original and 10 copies of all comments or protests shall be filed with the Board with a certificate of service. Except as otherwise set forth in part 1152, each document filed with the Board must be served on all parties to the abandonment proceeding. 49 CFR 1104.12(a). The line sought to be abandoned will be available for subsidy or sale for continued rail service, if the Board decides to permit the abandonment, in accordance with applicable laws and regulations (49 U.S.C. 10904 and 49 CFR 1152.27). No subsidy arrangement approved under 49 U.S.C. 10904 shall remain in effect for more than 1 year unless otherwise mutually agreed by the parties (49 U.S.C. 10904(f)(4)(B)). Applicant will promptly provide upon request to each interested party an estimate of the subsidy and minimum purchase price required to keep the line in operation. The carrier's representative to whom inquiries may be made concerning sale or subsidy terms is John D. Heffner, 1707 L Street, NW, Suite 570, Washington, DC 20036.

Persons seeking further information concerning abandonment procedures may contact the Surface Transportation Board or refer to the full abandonment or discontinuance regulations at 49 CFR part 1152. Questions concerning environmental issues may be directed to the Board's Section of Environmental Analysis.

An environmental assessment (EA) (or environmental impact statement (EIS), if necessary) prepared by the Section of Environmental Analysis will be served upon all parties of record and upon any agencies or other persons who commented during its preparation. Any other persons who would like to obtain a copy of the EA (or EIS) may contact the Section of Environmental Analysis. EAs in abandonment proceedings normally will be made available within 33 days of the filing of the application. The deadline for submission of comments on the EA will generally be within 30 days of its service. The comments received will be addressed in the Board's decision. A supplemental EA or EIS may be issued where appropriate.

Decided: June 9, 2000.
By the Board, David M. Konschnik, Director, Office of Proceedings.
Vernon A. Williams,
Secretary.

[FR Doc. 00-15049 Filed 6-14-00; 8:45 am]

BILLING CODE 4915-00-P